DEPARTMENT OF HEALTH AND HUMAN SERVICES

Health Resources and Services Administration

Advisory Committee; Notice of Meeting

In accordance with section 10(a)(2) of the Federal Advisory Committee Act (Public Law 92-463), announcement is made of the following National Advisory body scheduled to meet during the month of January 2001.

Name: Advisory Committee on Training in Primary Care Medicine and Dentistry

Date and Time: January 31, 2001; 8:30 a.m.-5:30 p.m.

Place: The Hilton Washington Embassy Row, 2015 Massachusetts Avenue, NW., Washington, D.C. 20036.

The meeting is open to the public.

Purpose: The Advisory Committee shall (1) provide advice and recommendations to the Secretary concerning policy and program development and other matters of significance concerning activities under section 747 of the Public Health Service Act; and (2) prepare and submit to the Secretary, the Committee on Health, Education, Labor and Pensions (formerly the Committee on Labor and Human Resources) of the Senate, and the Committee on Commerce of the House of Representatives a report describing the activities of the Advisory Committee, including findings and recommendations made by the Committee concerning the activities under section 747 of the PHS Act. The Advisory Committee will meet twice each year and submit its first report to the Secretary and the Congress by November 2001.

Agenda: Discussion of the focus of the programs and activities authorized under section 747 of the Public Health Service Act. Review of the work completed to date by the two workgroups will be reviewed. Funding issues and recommendations for the future will be addressed. There will be finalization of an outline and specific content areas to be included in the Committee's first report.

Anyone interested in obtaining a roster of members, minutes of the meeting, or other relevant information should write or contact Dr. Stan Bastacky, Deputy Executive Secretary, Advisory Committee on Training in Primary Care Medicine and Dentistry, Parklawn Building, Room 9A-21, 5600 Fishers Lane, Rockville, Maryland 20857, phone (301) 443-6326, e-mail sbastacky@hrsa.gov. The web address for the Advisory Committee is http://158.72.83.3/bhpr/dm/new_advisory _committee_on_primar.htm.

Dated: January 9, 2001.
Jane M. Harrison,
Director, Division of Policy Review and Coordination.

[FR Doc. 01-1248 Filed 1-16-01; 8:45 am]

BILLING CODE 4160-15-P